DEPARTMENT OF TRANSPORTATION

Federal Aviation Administration

14 CFR Part 39

[Docket No. FAA-2022-1245; Project Identifier MCAI-2022-00503-T; Amendment 39-22334; AD 2023-03-09]

RIN 2120-AA64

Airworthiness Directives; ATR—GIE Avions de Transport Régional Airplanes

AGENCY: Federal Aviation Administration (FAA), Department of Transportation (DOT).

ACTION: Final rule.

SUMMARY: The FAA is superseding Airworthiness Directive (AD) 2021-20-09, which applied to certain ATR—GIE Avions de Transport Régional Model ATR72 airplanes. AD 2021-20-09 required revising the existing maintenance or inspection program, as applicable, to incorporate new or more restrictive airworthiness limitations. This AD was prompted by a determination that new or more restrictive tasks and airworthiness limitations are necessary. This AD continues to require the actions in AD 2021-20-09 and requires revising the existing maintenance or inspection program, as applicable, to incorporate additional new or more restrictive tasks and airworthiness limitations, as specified in a European Union Aviation Safety Agency (EASA) AD, which is incorporated by reference. The FAA is issuing this AD to address the unsafe condition on these products.

DATES: This AD is effective April 3, 2023.

The Director of the Federal Register approved the incorporation by reference of a certain publication listed in this AD as of April 3, 2023.

The Director of the Federal Register approved the incorporation by reference of a certain other publication listed in this AD as of December 27, 2021 (86 FR 64805, November 19, 2021).

ADDRESSES:

AD Docket: You may examine the AD docket at regulations.gov under Docket No. FAA-2022-1245; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-1245.

FOR FURTHER INFORMATION CONTACT: Shahram Daneshmandi, Aerospace Engineer, Large Aircraft Section, FAA, International Validation Branch, 2200 South 216th St., Des Moines, WA 98198; telephone 206-231-3220; email shahram.daneshmandi@faa.gov.

SUPPLEMENTARY INFORMATION:

Background

The FAA issued a notice of proposed rulemaking (NPRM) to amend 14 CFR part 39 to supersede AD 2021-20-09, Amendment 39-21747 (86 FR 64805, November 19, 2021) (AD 2021-20-09). AD 2021-20-09 applied to certain ATR—GIE Avions de Transport Régional Model ATR72-101, -102, -201, -202, -211, -212, and -212A airplanes. AD 2021-20-09 required revising the existing maintenance or inspection program, as applicable, to incorporate new or more restrictive airworthiness limitations. The FAA issued AD 2021-20-09 to address reduced structural integrity of the airplane.

The NPRM published in the Federal Register on December 6, 2022 (87 FR 74538). The NPRM was prompted by AD 2022-0201, dated September 26, 2022, issued by EASA (EASA AD 2022-0201) (referred to after this as the MCAI). The MCAI states that the manufacturer updated the time limits document to introduce new or more restrictive tasks and limitations.

You may examine the MCAI in the AD docket at regulations.gov under Docket No. FAA-2022-1245.

In the NPRM, the FAA proposed to continue to require the actions in AD 2021-20-09 and require revising the existing maintenance or inspection program, as applicable, to incorporate additional new or more restrictive tasks and airworthiness limitations, as specified in EASA AD 2022-0201. The FAA is issuing this AD to address fatigue cracking and damage in principal structural elements, which could result in reduced structural integrity of the airplane.

Discussion of Final Airworthiness Directive

Comments

The FAA received a comment from the Air Line Pilots Association, International (ALPA), who supported the NPRM without change.

Explanation of Revised Applicability

The FAA revised paragraph (c) of this AD to apply to airplanes with an original airworthiness certificate or original export certificate of airworthiness issued on or before September 21, 2022 (the issuance date of the service information referenced in EASA AD 2022-0201). Airplanes with an original airworthiness certificate or original export certificate of airworthiness issued after September 21, 2022, must comply with the airworthiness limitations specified as part of the approved type design and referenced on the type certificate data sheet; this AD therefore does not include those airplanes in the applicability. In the NPRM, the FAA inadvertently specified a date of February 3, 2022, which is the issuance date of a prior revision of the service information referenced in EASA AD 2022-0201. The FAA has confirmed no affected airplanes were added to the U.S. Registry between February 3, 2022 and September 21, 2022.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2022-0201 describes new or more restrictive tasks, airworthiness limitations for airplane structures, and safe life limits.

This AD also requires EASA AD 2021-0020, dated January 15, 2021 (EASA AD 2021-0020), which the Director of the Federal Register approved for incorporation by reference as of December 27, 2021 (86 FR 64805, November 19, 2021).

This material is reasonably available because the interested parties have access to it through their normal course of business or by the means identified in the ADDRESSES section.

Costs of Compliance

The FAA estimates that this AD affects 23 airplanes of U.S. registry. The FAA estimates the following costs to comply with this AD:

The FAA estimates the total cost per operator for the retained actions from AD 2021-20-09 to be $7,650 (90 workhours × $85 per work-hour).

The FAA has determined that revising the existing maintenance or inspection program takes an average of 90 workhours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-20-09, Amendment 39-21747 (86 FR 64805, November 19, 2021); and

b. Adding the following new airworthiness directive:

2023-03-09 ATR—GIE Avions de Transport Régional: Amendment 39-22334; Docket No. FAA-2022-1245; Project Identifier MCAI-2022-00503-T.

(a) Effective Date

This airworthiness directive (AD) is effective April 3, 2023.

(b) Affected ADs

This AD replaces AD 2021-20-09, Amendment 39-21747 (86 FR 64805, November 19, 2021) (AD 2021-20-09).

(c) Applicability

This AD applies to ATR—GIE Avions de Transport Régional Model ATR72-101, -102, -201, -202, -211, -212, and -212A airplanes, certificated in any category, with an original airworthiness certificate or original export certificate of airworthiness issued on or before September 21, 2022.

(d) Subject

Air Transport Association (ATA) of America Code 05, Time Limits/Maintenance Checks.

(e) Unsafe Condition

This AD was prompted by a determination that new or more restrictive tasks and airworthiness limitations are necessary. The FAA is issuing this AD to address fatigue cracking and damage in principal structural elements, which could result in reduced structural integrity of the airplane.

(f) Compliance

Comply with this AD within the compliance times specified, unless already done.

(g) Retained Revision of the Existing Maintenance or Inspection Program, With No Changes

This paragraph restates the requirements of paragraph (j) of AD 2021-20-09, with no changes. For ATR-GIE Avions de Transport Régional Model ATR72-101, -102, -201, -202, -211, -212, and -212A airplanes, with an original airworthiness certificate or original export certificate of airworthiness issued on or before October 9, 2020, Except as specified in paragraph (h) of this AD: Comply with all required actions and compliance times specified in, and in accordance with, European Union Aviation Safety Agency (EASA) AD 2021-0020, dated January 15, 2021 (EASA AD 2021-0020). Accomplishing the revision of the existing maintenance or inspection program required by paragraph (j) of this AD terminates the requirements of this paragraph.

(h) Retained Exceptions to EASA AD 2021-0020, With No Changes

This paragraph restates the requirements of paragraph (k) of AD 2021-20-09, with no changes.

(1) Where EASA AD 2021-0020 refers to its effective date, this AD requires using December 27, 2021 (the effective date of AD 2021-20-09).

(2) The requirements specified in paragraphs (1) and (2) of EASA AD 2021-0020 do not apply to this AD.

(3) Paragraph (3) of EASA AD 2021-0020 specifies revising “the approved AMP” within 12 months after its effective date, but this AD requires revising the existing maintenance or inspection program, as applicable, within 90 days after December 27, 2021 (the effective date of AD 2021-20-09).

(4) Except as provided by Note 1 of EASA AD 2021-0020, the initial compliance time for doing the tasks specified in paragraph (3) of EASA AD 2021-0020 is at the applicable “thresholds” as incorporated by the requirements of paragraph (3) of EASA AD 2021-0020, or within 90 days after December 27, 2021 (the effective date of AD 2021-20-09), whichever occurs later.

(5) The provisions specified in paragraphs (4) and (5) of EASA AD 2021-0020 do not apply to this AD.

(6) The “Remarks” section of EASA AD 2021-0020 does not apply to this AD.

(i) Retained Restrictions on Alternative Actions and Intervals, With a New Exception

This paragraph restates the requirements of paragraph (l) of AD 2021-20-09, with a new exception. Except as required by paragraph (j) of this AD, after the existing maintenance or inspection program has been revised as required by paragraph (g) of this AD, no alternative actions (e.g., inspections) and intervals are allowed unless they are approved as specified in the provisions of the “Ref. Publications” section of EASA AD 2021-0020.

(j) New Revision of the Existing Maintenance or Inspection Program

Except as specified in paragraph (k) of this AD: Comply with all required actions and compliance times specified in, and in accordance with, EASA AD 2022-0201, dated September 26, 2022 (EASA AD 2022-0201). Accomplishing the revision of the existing maintenance or inspection program required by this paragraph terminates the requirements of paragraph (g) of this AD.

(k) Exceptions to EASA AD 2022-0201

(1) Where EASA AD 2022-0201 refers to its effective date, this AD requires using the effective date of this AD.

(2) The requirements specified in paragraphs (1) and (2) of EASA AD 2022-0201 do not apply to this AD.

(3) Paragraph (3) of EASA AD 2022-0201 specifies revising “the approved AMP” within 12 months after its effective date, but this AD requires revising the existing maintenance or inspection program, as applicable, within 90 days after the effective date of this AD.

(4) The initial compliance time for doing the tasks specified in paragraph (3) of EASA AD 2022-0201 is at the applicable “limitations” and “associated thresholds” as incorporated by the requirements of paragraph (3) of EASA AD 2022-0201, or within 90 days after the effective date of this AD, whichever occurs later.

(5) The provisions specified in paragraphs (4) and (5) of EASA AD 2022-0201 do not apply to this AD.

(6) The “Remarks” section of EASA AD 2022-0201 does not apply to this AD.

(l) New Provisions for Alternative Actions and Intervals

After the existing maintenance or inspection program has been revised as required by paragraph (j) of this AD, no alternative actions (e.g., inspections) and intervals are allowed unless they are approved as specified in the provisions of the “Ref. Publications” section of EASA AD 2022-0201.

(m) Additional FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (n) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or ATR-GIE Avions de Transport Régional's EASA Design Organization Approval (DOA). If approved by the DOA, the approval must include the DOA-authorized signature.

(n) Additional Information

For more information about this AD, contact Shahram Daneshmandi, Aerospace Engineer, Large Aircraft Section, FAA, International Validation Branch, 2200 South 216th St., Des Moines, WA 98198; telephone 206-231-3220; email shahram.daneshmandi@faa.gov.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 3, 2023.

(i) European Union Aviation Safety Agency (EASA) AD 2022-0201, dated September 26, 2022.

(ii) [Reserved]

(4) The following service information was approved for IBR December 27, 2021 (86 FR 64805, November 19, 2021).

(i) European Union Aviation Safety Agency (EASA) AD 2021-0020, dated January 15, 2021.

(ii) [Reserved]

(5) For EASA ADs 2022-0201 and 2021-0020, contact EASA, Konrad-Adenauer-Ufer 3, 50668 Cologne, Germany; telephone +49 221 8999 000; email ADs@easa.europa.eu; website easa.europa.eu. You may find these EASA ADs on the EASA website at ad.easa.europa.eu.

(6) You may view this material at the FAA, Airworthiness Products Section, Operational Safety Branch, 2200 South 216th St., Des Moines, WA. For information on the availability of this material at the FAA, call 206-231-3195.

(7) You may view this material that is incorporated by reference at the National Archives and Records Administration (NARA). For information on the availability of this material at NARA, email fr.inspection@nara.gov, or go to: www.archives.gov/federal-register/cfr/ibr-locations.html.

Issued on February 1, 2023.
Christina Underwood,
Acting Director, Compliance & Airworthiness Division, Aircraft Certification Service.

[FR Doc. 2023-03693 Filed 2-24-23; 8:45 am]

BILLING CODE 4910-13-P